DEPARTMENT OF ENERGY

Federal Energy Regulatory Commission

[Docket Nos. CP16-22-000; PF15-10-000; CP16-23-000; PF15-11-000; CP16-24-000]

NEXUS Gas Transmission, LLC; Texas Eastern Transmission, LP; DTE Gas Company; Notice of Applications

Take notice that on November 20, 2015, NEXUS Gas Transmission, LLC (NEXUS), 5400 Westheimer Court, Houston, Texas 77056, filed in Docket No. CP16-22-000 an application pursuant to section 7(c) of the Natural Gas Act (NGA) for authorization: (i) To construct approximately 255.9 miles of new, 36-inch-diameter interstate pipeline in Ohio and Michigan; (ii) to construct four compressor stations, totaling 130,000 horsepower (HP); (iii) to construct various appurtenances (collectively, the NEXUS Project); (iv) of its proposed pro forma tariff; (v) for a Part 157, Subpart F construction certificate; (vi) for a Part 284, Subpart G blanket certificate; and (vii) for any waivers the Commission deems necessary for the NEXUS Project. NEXUS states that the proposed pipeline will have a capacity of 1.5 million dekatherms per day (Dth/d) and estimates the cost of the NEXUS Project to be approximately $2,095,267,444.

Additionally, on November 20, 2015, Texas Eastern Transmission, LP (Texas Eastern), 5400 Westheimer Court, Houston, Texas 77056, filed in Docket No. CP16-23-000 an application pursuant to sections 7(b) and 7(c) of the NGA for authorization: (i) To construct approximately 4.4 miles of 36-inch-diameter pipeline loop in Monroe County, Ohio; (ii) to construct 1,790 feet of connecting pipeline to the NEXUS Project in Columbiana County, Ohio; (iii) to construct a new 18,800 HP compressor station in Columbiana County, Ohio; (iv) to construct a new 9,400 HP compressor unit at its existing Colerain Compressor Station in Belmont County, Ohio; (v) to modify Line 73 to allow for bi-directional flow; (vi) to construct various appurtenances (collectively, the TEAL Project); (vii) to abandon by lease to NEXUS 950,155 Dth/d; and (vii) for any waivers the Commission deems necessary for the TEAL Project. Texas Eastern estimates the cost of the TEAL Project to be approximately $183,519,668.

These applications will be reviewed contemporaneously with the application for an operating lease filed by DTE Gas Company in Docket No. CP16-24-000 on November 24, 2015.

All of the applications are on file with the Commission and open to public inspection. The filing is available for review at the Commission in the Public Reference Room or may be viewed on the Commission's Web site Web at http://www.ferc.gov using the “eLibrary” link. Enter the docket number excluding the last three digits in the docket number field to access the document. For assistance, contact FERC at FERCOnlineSupport@ferc.gov or call toll-free, (886) 208-3676 or TYY, (202) 502-8659.

Any questions concerning the application in Docket No. CP16-22-000 may be directed to Berk Donaldson or Leanne Sidorkewicz, NEXUS Gas Transmission LLC, 5400 Westheimer Court, Houston, Texas 77056, by telephone at (713) 627-4488, or by email at bdonaldson@spectraenergy.com or lsidorkewicz@spectraenergy.com.

Any questions concerning the application in Docket No. CP16-23-000 may be directed to Berk Donaldson, General Manger, Rates and Certificates, Texas Eastern Transmission, LP, PO Box 1642, Houston, Texas 77251-1642, by telephone at (713) 624-4488, or by facsimile at (713) 627-5947.

On December 30, 2014, the Commission staff granted NEXUS' request to utilize the Pre-Filing Process and assigned Docket No. PF15-10-000 to staff's activities involved in the NEXUS Project. Now, as of the November 20, 2015 application, the Pre-Filing Process for the NEXUS Project has ended. From this time forward, this proceeding will be conducted in Docket No. CP16-22-000, as noted in the caption of this Notice.

On January 16, 2015, the Commission staff granted Texas Eastern's request to utilize the Pre-Filing Process and assigned Docket No. PF15-11-000 to staff's activities involved in the TEAL Project. Now, as of the November 20, 2015 application, the Pre-Filing Process for the TEAL Project has ended. From this time forward, this proceeding will be conducted in Docket No. CP16-23-000, as noted in the caption of this Notice.

Pursuant to section 157.9 of the Commission's rules, 18 CFR 157.9, within 90 days of this Notice, the Commission staff will issue a Notice of Schedule for Environmental Review. If a Notice of Schedule for Environmental Review is issued, it will indicate, among other milestones, the anticipated date for the Commission staff's issuance of the final environmental impact statement (FEIS) for this proposal. The issuance of a Notice of Schedule for Environmental Review will serve to notify federal and state agencies of the timing for the completion of all necessary reviews, and the subsequent need to complete all federal authorizations within 90 days of the date of issuance of the Commission staff's FEIS.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street NE., Washington, DC 20426.

Comment Date: 5:00 p.m. Eastern Time on December 28, 2015.

Dated: December 7, 2015.
Nathaniel J. Davis, Sr.,
Deputy Secretary.

[FR Doc. 2015-31214 Filed 12-10-15; 8:45 am]

BILLING CODE 6717-01-P